ENVIRONMENTAL PROTECTION AGENCY

40 CFR Part 52

[WV063-6032a; FRL-7612-9]

Approval and Promulgation of Air Quality Implementation Plans; West Virginia; MOBILE6-Based Motor Vehicle Emission Budgets for Greenbrier County and the Charleston, Huntington, and Parkersburg 1-Hour Ozone Maintenance Areas

AGENCY: Environmental Protection Agency (EPA).

ACTION: Direct final rule.

SUMMARY: EPA is taking direct final action to approve State Implementation Plan (SIP) revisions submitted by the State of West Virginia. The revisions amend the 1-hour ozone maintenance plans for Greenbrier County and the Charleston, Huntington and Parkersburg areas. These revisions amend the maintenance plans' base year and 2005 highway mobile volatile organic compound (VOC) and nitrogen oxide (NOX) emission inventories and the 2005 motor vehicle emissions budgets (MVEBs) to reflect the use of MOBILE6. These revisions also reallocate a portion of each plans' safety margins which results in an increase in the MVEBs. The revised plans continue to demonstrate maintenance of the 1-hour national ambient air quality standard (NAAQS) for ozone. EPA is approving these SIP revisions to the West Virginia maintenance plans in accordance with the requirements of the Clean Air Act.

DATES: This rule is effective on April 12, 2004, without further notice, unless EPA receives adverse written comment by March 11, 2004. If EPA receives such comments, it will publish a timely withdrawal of the direct final rule in the Federal Register and inform the public that the rule will not take effect.

ADDRESSES: Comments may be submitted either by mail or electronically. Written comments should be mailed to Larry Budney, Energy, Radiation and Indoor Environment Branch, Mailcode 3AP23, U.S. Environmental Protection Agency, Region III, 1650 Arch Street, Philadelphia, Pennsylvania 19103. Electronic comments should be sent either to budney.larry@epa.gov or to http://www.regulations.gov, which is an alternative method for submitting electronic comments to EPA. To submit comments, please follow the detailed instructions described in Part III of the Supplementary Information section. Copies of the documents relevant to this action are available for public inspection during normal business hours at the Air Protection Division, U.S. Environmental Protection Agency, Region III, 1650 Arch Street, Philadelphia, Pennsylvania 19103; and the West Virginia Department of Environmental Protection, Division of Air Quality, 7012 MacCorkle Avenue, SE., Charleston, West Virginia 25304-2943.

FOR FURTHER INFORMATION CONTACT: Larry Budney, (215) 814-2184, or by e-mail at budney.larry@epa.gov.

SUPPLEMENTARY INFORMATION:

I. Background

On August 4, 1995 (60 FR 39911), September 6, 1994 (59 FR 45985), December 21, 1994 (59 FR 65719) and September 6, 1994 (59 FR 45978), respectively, EPA redesignated Greenbrier County and the Charleston, Huntington and Parkersburg areas of West Virginia to attainment for the 1-hour ozone NAAQS. For each of those areas, the redesignations included approvals of 1-hour ozone maintenance plans, which identify on-road MVEBs for VOCs and NOX, which are ozone precursors. The MVEBs contained in those maintenance plans were based upon MOBILE5, which was the latest EPA on-road motor vehicle emission factor model available at the time.

The MOBILE model is an EPA emission factor model for estimating pollutant emissions from on-road motor vehicles. The MOBILE model calculates emissions of VOCs and NOX from passenger cars, motorcycles, buses, and light-duty and heavy-duty trucks. The model accounts for the emission impacts of factors such as changes in vehicle emission standards, changes in vehicle populations and activity, and various local conditions such as temperature, humidity, fuel quality, and air quality programs. The MOBILE model is used to calculate current and future inventories of motor vehicle emissions at the national and local level. These inventories are used to make decisions about air pollution policies and programs at the local, State and national level. MOBILE-based inventories are also used in demonstrating how the Clean Air Act's (the Act's) requirements for SIPs and transportation conformity are met.

The MOBILE model was first developed in 1978. It has been updated several times to reflect changes in the vehicle fleet and fuels, to incorporate EPA's growing understanding of vehicle emissions, and to address new emission regulations and modeling needs. EPA released MOBILE6, the latest version of the MOBILE model, on January 29, 2002 (67 FR 4254). Although some minor updates were made in 1996 with the release of MOBILE5b, MOBILE6 is the first major revision to MOBILE since MOBILE5a was released in 1993. Beginning in January of 2004, all conformity determinations for new transportation improvement programs and long range transportation plans will be required to use MOBILE6 to demonstrate conformity.

For the year 2005, the maintenance plans identified and established MVEBs for VOC and NOX for each area, to which each respective area's transportation improvement program and long range transportation plan must conform. Conformity to MVEBs in a SIP means that transportation activities will not produce new air quality violations, worsen existing violations, or delay timely attainment of the NAAQS.

II. Summary of West Virginia's SIP Revision and EPA's Review

A. MOBILE6-Based Highway Motor Vehicle Emission Inventories

On October 15, 2003, the State of West Virginia submitted to EPA a formal revision to its State Implementation Plan (SIP). The SIP revision contains recalculations of the MVEBs to reflect the use of the MOBILE6 emission factor model for Greenbrier County and the Charleston, Huntington and Parkersburg maintenance areas. The revisions also reallocate a portion of the differences (safety margins) between the total base year and total projected 2005 emissions for each area which produces an increase in the MVEBs. The base year is 1990 for the Charleston and Parkersburg areas, and 1993 for Greenbrier County and the Huntington area. By increasing the MVEBs, the West Virginia Department of Environmental Protection (WVDEP) is ensuring that conformity can be demonstrated in each area. The October 15, 2003 submittal, while increasing the MVEBs still ensures maintenance of the NAAQS for ozone in each area.

Tables 1-4 and the discussion that follows describe how the new MOBILE6-based MVEBs were determined for each maintenance area.

Table 1.—Greenbrier County Reallocation of Emissions and Determination of MOBILE6-Based MVEBs
[Tons/day]
| Emissions prior to reallocation: 1993 base year | Emissions prior to reallocation: 2005 projection | Safety margin: Allocated safety margin | 2005 emissions: 2005 MVEB
Highway MOBILE6 Emissions:
VOC | 4.22 | 1.96 | 1.50 | 3.46
NOX | 5.07 | 3.80 | 1.05 | 4.85
| 1993 base year | 2005 projection | base minus 2005 | 2005 total
Total (Point, Area and Mobile) Emissions:
VOC | 8.59 | 6.92 | 1.67 | 8.42
NOX | 6.67 | 5.50 | 1.17 | 6.56

Table 2.—Charleston Area Reallocation of Emissions and Determination of MOBILE6-Based MVEBs
[Tons/day]
| Emissions prior to reallocation: 1990 base year | Emissions prior to reallocation: 2005 projection | Safety margin: Allocated safety margin | 2005 emissions: 2005 MVEB
Highway MOBILE6 Emissions:
VOC | 38.2 | 14.4 | 30.1 | 44.5
NOX | 35.8 | 24.5 | 29.6 | 54.1
| 1990 base year | 2005 projection | Base minus 2005 | 2005 total
Total (Point, Area and Mobile) Emissions:
VOC | 114.8 | 81.3 | 33.5 | 111.4
NOX | 441.9 | 409.0 | 32.9 | 438.6

Table 3.—Huntington Area Reallocation of Emissions and Determination of MOBILE6-Based MVEBs
[Tons/day]
| Emissions prior to reallocation: 1993 base year | Emissions prior to reallocation: 2005 projection | Safety margin: Allocated safety margin | 2005 emissions: 2005 MVEB
Highway MOBILE6 Emissions:
VOC | 13.0 | 6.5 | 6.9 | 13.4
NOX | 13.0 | 10.2 | 3.7 | 13.9
| 1993 base year | 2005 projection | Base minus 2005 | 2005 total
Total (Point, Area and Mobile) Emissions:
VOC | 42.5 | 34.9 | 7.6 | 41.8
NOX | 42.2 | 38.1 | 4.1 | 41.8

Table 4.—Parkersburg Area Reallocation of Emissions and Determination of MOBILE6-Based MVEBs
[Tons/day]
| Emissions prior to reallocation: 1990 base year | Emissions prior to reallocation: 2005 projection | Safety margin: Allocated safety margin | 2005 emissions: 2005 MVEB
Highway MOBILE6 Emissions:
VOC | 10.0 | 4.0 | 9.5 | 13.4
NOX | 8.7 | 6.3 | 3.6 | 9.9
| 1990 base year | 2005 projection | Base minus 2005 | 2005 total
Total (Point, Area and Mobile) Emissions:
VOC | 55.1 | 44.6 | 10.5 | 54.1
NOX | 28.6 | 24.6 | 4.1 | 28.2

All emissions presented in the tables are recalculated based upon MOBILE6. The 2005 MVEB VOC AND NOX emissions (upper portion of last column) serve as the new MVEBs for transportation conformity planning.

As indicated in Tables 1-4 (see explanation that follows), ninety percent of the difference between the total base year emissions and the total projected 2005 emissions has been allocated to the respective on-road MVEBs. The remaining ten percent has been reserved as residual safety margins in the total maintenance budgets to ensure continued maintenance of the 1-hour ozone NAAQS.

To explain how the safety margins are determined and allocated, the VOC emissions for the Parkersburg area (in Table 4) may be used as an example. The total 1990 base year VOC emissions are 55.1 tons/day (tpd), which is the maximum amount of VOC emissions consistent with maintenance of the 1-hour ozone NAAQS. Since the total projected 2005 emissions are 44.6 tpd, there is a 10.5 tpd VOC safety margin (i.e., the ozone NAAQS would continue to be maintained if total VOC emissions increased as much as 10.5 tpd above the projected 2005 emissions of 44.6 tpd.) Ninety percent of the 10.5 tpd safety margin (i.e., 9.5 tpd) has been allocated to the 2005 projected highway VOC emissions (4.0 tpd) yielding a MVEB of 13.4 tpd of VOC for year 2005. (Note regarding the 13.4 number: 13.4, as opposed to 13.5, results from mathematical rounding of the VOC and safety margin numbers).

In the same Parkersburg example (again refer to Table 4), the remaining 1.0 tpd of the VOC safety margin has been reserved as a residual safety margin in the total (point, area and mobile source) maintenance VOC budget. The 1.0 tpd residual VOC safety margin is subtracted from the 1990 total allowable base year emissions (55.1 tpd) to yield 54.1 as the new total VOC maintenance budget for the Parkersburg area.

For all of the West Virginia 1-hour ozone maintenance areas addressed herein, the WVDEP recalculated the 2005 MVEBs using the latest available planning assumption data. However, the most up-to-date West Virginia vehicle registration data do not differentiate between passenger cars and light duty trucks, rendering those data inadequate for use in estimating emissions. Therefore, the WVDEP used the latest available West Virginia Highway Performance Monitoring System (HPMS) data on vehicle miles traveled (VMT) by vehicle type and roadway class obtained from the West Virginia Department of Transportation. The WVDEP used the HPMS data to adjust the national MOBILE6 default VMT data to generate a more accurate VMT mix by vehicle type and roadway class. That adjusted VMT mix was used in conjunction with MOBILE6 in calculating the base year and projected 2005 VOC and NOX emissions.

III. Final Action

EPA is approving West Virginia's October 15, 2003 SIP revision submittal which amends the 1-hour ozone maintenance plans for the Greenbrier County and the Charleston, Huntington and Parkersburg areas. These revisions amend the maintenance plans' base year and 2005 highway mobile VOC and NOX emission inventories and the 2005 MVEBs to reflect the use of MOBILE6. These revisions also reallocate a portion of each plans' safety margins which results in an increase in the MVEBs. EPA is approving these SIP revisions to the maintenance plans for Greenbrier County and the Charleston, Huntington and Parkersburg areas because the October 15, 2003 submittal continues to demonstrate maintenance of the 1-hour ozone NAAQS. EPA is publishing this rule without prior proposal because the Agency views this as a noncontroversial amendment and anticipates no adverse comment, since no significant adverse comments were received on the SIP revision at the State level. However, in the “Proposed Rules” section of today's Federal Register, EPA is publishing a separate document that will serve as the proposal to approve the SIP revision if adverse comments are filed. This rule will be effective on April 12, 2004 without further notice unless EPA receives adverse comment by March 11, 2004.

If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

You may submit comments either electronically or by mail. To ensure proper receipt by EPA, identify the appropriate rulemaking identification number WV063-6032 in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

i. E-mail. Comments may be sent by electronic mail (e-mail) to budney.larry@epa.gov attention WV063-6032. EPA's e-mail system is not an “anonymous access” system. If you send an e-mail comment directly without going through Regulations.gov, EPA's e-mail system automatically captures your e-mail address. E-mail addresses that are automatically captured by EPA's e-mail system are included as part of the comment that is placed in the official public docket.

ii. Regulations.gov. Your use of Regulations.gov is an alternative method of submitting electronic comments to EPA. Go directly to http://www.regulations.gov, then select “Environmental Protection Agency” at the top of the page and use the “go” button. The list of current EPA actions available for comment will be listed. Please follow the online instructions for submitting comments. The system is an “anonymous access” system, which means EPA will not know your identity, e-mail address, or other contact information unless you provide it in the body of your comment.

iii. Disk or CD ROM. You may submit comments on a disk or CD ROM that you mail to the mailing address identified in the ADDRESSES section of this document. These electronic submissions will be accepted in WordPerfect, Word or ASCII file format. Avoid the use of special characters and any form of encryption.

2. By Mail. Written comments should be addressed to the EPA Regional office listed in the ADDRESSES section of this document. For public commenters, it is important to note that EPA's policy is that public comments, whether submitted electronically or on paper, will be made available for public viewing at the EPA Regional Office, as EPA receives them and without change, unless the comment contains copyrighted material, confidential business information (CBI), or other information whose disclosure is restricted by statute. When EPA identifies a comment containing copyrighted material, EPA will provide a reference to that material in the version of the comment that is placed in the official public rulemaking file. The entire printed comment, including the copyrighted material, will be available at the Regional Office for public inspection.

Submittal of CBI Comments—Do not submit information that you consider to be CBI electronically to EPA. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD ROM, mark the outside of the disk or CD ROM clearly that it does not contain CBI. Information not marked as CBI will be included in the public file and available for public inspection without prior notice. If you have any questions about CBI or the procedures for claiming CBI, please consult the person identified in the FOR FURTHER INFORMATION CONTACT section.

Considerations When Preparing Comments to EPA

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate regional file/rulemaking identification number in the subject line on the first page of your response. It would also be helpful if you provided the name, date, and Federal Register citation related to your comments.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by April 12, 2004. Filing a petition for reconsideration by the Administrator of this final rule does not affect the finality of this rule for the purposes of judicial review nor does it extend the time within which a petition for judicial review may be filed, and shall not postpone the effectiveness of such rule or action. This action approving West Virginia's revisions to the base-year and 2005 MVEBs of its 1-hour ozone maintenance plans for the Greenbrier County and the Charleston, Huntington and Parkersburg areas to reflect the use of MOBILE6 may not be challenged later in proceedings to enforce its requirements. (See section 307(b)(2).)

List of Subjects in 40 CFR Part 52

Environmental protection, Air pollution control, Nitrogen dioxide, Ozone, Incorporation by reference, Reporting and recordkeeping requirements, Volatile organic compounds.

Dated: January 14, 2004.
James W. Newsom,
Acting Regional Administrator, Region III.

40 CFR part 52 is amended as follows:

PART 52—[AMENDED]

1. The authority citation for part 52 continues to read as follows:

Authority: 42 U.S.C. 7401 et seq.

Subpart XX—West Virginia

2. Section 52.2520 is amended by adding paragraph (c)(57) to read as follows:

§ 52.2520 Identification of plan.

* * * * *

(c) * * *

(57) Revisions to the West Virginia 1-hour ozone maintenance plans for Greenbrier County and the Charleston, Huntington and Parkersburg areas to amend the base year and 2005 mobile emissions inventories and the 2005 motor vehicle emission budgets to reflect the use of MOBILE6, and to reallocate a portion of projected MOBILE6-based emission safety margins to those 2005 motor vehicle emission budgets. These revisions were submitted by the State of West Virginia Department of Environmental Protection to EPA on October 15, 2003.

(i) Incorporation by reference.

(A) Letter of October 15, 2003 from the Secretary of the West Virginia Department of Environmental Protection transmitting revisions to West Virginia's ozone maintenance plans for the Greenbrier County and the Charleston, Huntington and Parkersburg areas.

(B) Document entitled “Final Revisions to the 1-Hour Ozone Maintenance Plans for the Charleston, WV (Kanawha and Putnam Counties); Huntingdon, WV (Cabell & Wayne Counties); Parkersburg, WV (Wood County); and Greenbrier County WV Maintenance Areas.” This document establishes revised motor vehicle emissions budgets for the following 1-hour ozone maintenance plans, effective September 26, 2003:

(1) Revisions to the Charleston, West Virginia (Kanawha and Putnam Counties) ozone maintenance plan, establishing revised motor vehicle emissions budgets of 44.5 tons/day of VOC and 54.1 tons/day of NOX.

(2) Revisions to the Huntington, West Virginia (Cabell and Wayne Counties) ozone maintenance plan, establishing revised motor vehicle emissions budgets of 13.4 tons/day of VOC and 13.9 tons/day of NOX.

(3) Revisions to the Parkersburg, West Virginia (Wood County) ozone maintenance plan, establishing revised motor vehicle emissions budgets of 13.4 tons/day of VOC and 9.9 tons/day of NOX.

(4) Revisions to the Greenbrier County, West Virginia ozone maintenance plan, establishing revised motor vehicle emissions budgets of 3.46 tons/day of VOC and 4.85 tons/day of NOX.

(ii) Additional Material.—Remainder of the State submittal pertaining to the revisions listed in paragraph (c)(57)(i) of this section.

[FR Doc. 04-2707 Filed 2-9-04; 8:45 am]

BILLING CODE 6560-50-P